DEPARTMENT OF ENERGY

Federal Energy Regulatory Commission

[Project No. 785-018]

Consumers Energy Company; Notice of Application Ready for Environmental Analysis and Soliciting Comments, Recommendations, Terms and Conditions, and Prescriptions

December 8, 2008.

Take notice that the following hydroelectric license application has been filed with the Commission and is available for public inspection.

a. Type of Application: New License.

b. Project No.: P-785-018.

c. Date Filed: April 4, 2008.

d. Applicant: Consumers Energy Company.

e. Name of Project: Calkins Bridge Hydroelectric Project.

f. Location: On the Kalamazoo River in Allegan County, Michigan. The project does not occupy federal lands.

g. Filed Pursuant to: Federal Power Act 16 U.S.C. 791(a)-825(r).

h. Applicant Contact: James R. Coddington, Consumers Energy Company, One Energy Plaza, Jackson, MI 49201, (517) 788-2455.

i. FERC Contact: Tim Konnert, (202) 502-6359 or timothy.konnert@ferc.gov.

j. Deadline for filing comments, recommendations, terms and conditions, and prescriptions: 60 days from the issuance date of this notice; reply comments are due 105 days from the issuance date of this notice.

All documents (original and eight copies) should be filed with: Kimberly D. Bose, Secretary, Federal Energy Regulatory Commission, 888 First Street, NE., Washington, DC 20426.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

Comments, recommendations, terms and conditions, and prescriptions may be filed electronically via the Internet in lieu of paper. The Commission strongly encourages electronic filings. See CFR 385.2001(a)(1)(iii) and the instructions on the Commission's Web site (http://www.ferc.gov) under the “eFiling” link.

k. This application has been accepted, and is ready for environmental analysis at this time.

l. The existing Calkins Bridge Project consists of: (1) A 42-foot-high, 1,330-foot-long dam, consisting of a 1,100-foot-long earth embankment section and a 230-foot-long concrete integral powerhouse-spillway section; (2) an 8.5-mile-long, 1,550-acre reservoir with a normal water surface elevation of 615.0 feet above mean sea level; (3) a powerhouse containing three generating units with a total installed capacity of 2,550 kilowatts; (4) three 64-foot-long, 24-kilovolt buried transmission cables connected to the regional grid; and (5) appurtenant facilities. The estimated average annual generation of the project is 13,041 megawatt-hours.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

n. All filings must (1) Bear in all capital letters the title “COMMENTS,” “REPLY COMMENTS,” “RECOMMENDATIONS,” “TERMS AND CONDITIONS,” or “FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed in the service list prepared by the Commission in this proceeding, in accordance with 18 CFR 4.34(b) and 385.2010.

o. Procedural Schedule:

The application will be processed according to the following Hydro Licensing Schedule. Revisions to the schedule may be made as appropriate.

Milestone | Target date
Commission issues EA | May 2009
Comments on EA | June 2009

p. Final amendments to the application must be filed with the Commission no later than 30 days from the issuance date of this notice.

Kimberly D. Bose,
Secretary.

[FR Doc. E8-29470 Filed 12-11-08; 8:45 am]

BILLING CODE 6717-01-P